DEPARTMENT OF HEALTH AND HUMAN SERVICES

Office of the Secretary

Privacy Act of 1974; New System of Records

AGENCY: Workplace Violence Prevention Team, Office of Human Resources, Office of the Assistant Secretary for Management and Budget, Office of the Secretary, HHS.

ACTION: Notification of a new system of records.

SUMMARY: In accordance with the requirements of the Privacy Act, HHS is giving notice that it is publishing a notice of a new system of records, 09-90-1200, “Workplace Violence Prevention Team Records.” We are also proposing routine uses for this new system.

DATES: OHR invites interested parties to submit comments on the proposed internal and routine uses on or before November 13, 2000. OHR sent a Report of a New System to the Congress and to the Office of Management and Budget (OMB) on September 20, 2000. The new system of records will be effective 40 days from the date submitted to OMB unless OHR receives comments that would result in a contrary determination.

ADDRESSES: Address comments to the Privacy Act Officer, Office of the Secretary, 200 Independence Avenue, SW, Room 645F, Washington, DC 20201. Comments received will be made available for public inspection at the above address during normal business hours, 8:30 a.m.-5 p.m.

FOR FURTHER INFORMATION CONTACT: Workplace Violence Prevention Team Leader, Work and Family Program, 330 C Street, SW, Room 1250, Washington, DC 20201. Telephone number is 202-690-1441 or 202-690-8229. These are not toll-free numbers.

SUPPLEMENTARY INFORMATION: The Office of Human Resources (OHR) proposes to establish a new system of records: 09-90-1200, “Workplace Violence Prevention Team Records.” This system of records will be used by members of the HHS Workplace Violence Prevention Teams (WVPT) to assist employees who contact them for assistance with an actual or potential workplace violence situation. The records of the system will be used to: (1) Administer health programs related to workplace violence prevention activities; (2) administer and support safety programs that help reduce accidents and injuries among employees; (3) monitor or follow up on violent or potentially violent situations in HHS: (4) help WVPT members make assessments of violent or potentially violent situations and then make recommendations regarding interventions to those persons involved with the situations; (5) prepare administrative reports, conduct evaluations, or audit the activities of the team; and (6) inform management, medical personnel and security staff in HHS of potential and actual dangerous situations that require their actions to assure the safety and health of employees.

The system will contain records on each person who contacts the teams for assistance. It will also contain records on individuals who are being interviewed and investigated by the teams. The records will typically contain demographic data such as the individual's name, pay plan, grade level, employing organization, office location, duty hours, telephone number and name of supervisor. Information will also be maintained about the workplace violence situations concerning those who contact the teams. This will include descriptions of events related to the workplace violence situations, others involved, as well as dates and locations of events. Each record will also contain an assessment of the situation by the WVPT, information regarding any interviews that were conducted, and the recommended interventions. If an individual is being interviewed because of another person's report, the record may also contain information that was obtained through interviews with the supervisor, Federal or local law enforcement personnel, HHS security staff, co-workers, and any others involved in the situation.

AUTHORITIES FOR MAINTENANCE OF THE SYSTEM:

5 U.S.C. 7901 (Health Services Programs);

5 U.S.C. 7902 (Safety Programs).

ROUTINE USES OF RECORDS MAINTAINED IN THE SYSTEM, INCLUDING CATEGORIES OF USERS AND THE PURPOSES OF SUCH USES:

The routine uses proposed for this system are compatible with the stated purposes of the system, i.e., administer health programs related to workplace violence; administer and support safety programs that help reduce accidents and injuries; monitor or follow up on violent or potentially violent situations in HHS; make assessments of violent or potentially violent situations and recommendations regarding interventions; prepare administrative reports, evaluations and audit activities; and inform management, medical personnel and security staff in HHS of potential or actual dangerous situations that require action to assure the safety and health of employees.

The WVPT will disclose relevant information to third parties outside the Department as follows: Routine Use 1: To a congressional office when it has received a written inquiry from an individual about whom a record is maintained in this system. This request will be verified before disclosure from the individual's record will be made to the congressional office. Routine Use 2: When a person or property is harmed, or when threats of harm to a person or property are reported, disclosure will be made, as appropriate, to law enforcement authorities, medical treatment authorities, and those persons being threatened or harmed. Routine Use 3: To the Department of Justice, a court or other tribunal, when: (a) HHS, or any component, thereof; or (b) any HHS employee in his or her official capacity; or (c) any HHS employee in his or her individual capacity where the Department of Justice (or HHS, where it is authorized to do so) has agreed to represent the employee; or (d) the United States or any agency thereof where HHS determines that the litigation is likely to affect HHS or any of its components, is a party to litigation or has interest in such litigation, and HHS determines that the use of such records by the Department of Justice, the court or other tribunal is relevant and necessary to the litigation and would help in the effective representation of the governmental party, provided, however, that in each case HHS determines that such disclosure is compatible with the purpose for which the records are collected. The local System Manager will approve any disclosure made under this routine use. Routine Use 4: To student volunteers, interns, individuals working under a personal services contact, organizations working under contract, and other individuals performing functions for the Department but technically not having the status of agency employees, if they need access to the records to perform their assigned duties. This includes those performing threat or risk assessments. The contractor will be required to maintain Privacy Act safeguards with respect to such records. These safeguards are explained in the section entitled “Safeguards.” Routine Use 5: To qualified personnel for research, audit, or evaluation purposes.

SAFEGUARDS:

The OHR has instituted extensive safeguards to protect both the automated and non-automated records. The Systems Security Officer has certified that the safeguards for the system are commensurate with the sensitivity and criticality of the records. The system notice describes: (1) The safeguards that are in effect to ensure that only authorized users have access to the records; (2) the physical security measures used to protect the records; (3) the procedural safeguards to ensure data integrity and prevent unauthorized access and disclosure; and (4) security guidelines for contractors, as applicable.

The system notice is written in the present rather than future tense to avoid the unnecessary expenditure of public funds to republish the notice after the new system becomes effective.

Dated: September 27, 2000.
Evelyn White,
Deputy Assistant Secretary for Human Resources, ASMB.

09-90-1200

SYSTEM NAME:

Workplace Violence Prevention Team (WVPT) Records, HSS/OS/ASMB/OHR.

SECURITY CLASSIFICATION:

None.

SYSTEM LOCATION:

Records are located throughout HHS in offices designated to provide workplace violence prevention services. Since there are numerous sites around the country available for these services, contact the appropriate system manager in Appendix A for more details about specific locations.

CATEGORIES OF INDIVIDUALS COVERED BY THE SYSTEM:

Individuals covered by this system include: persons who report potential or actual workplace violence; persons accused of threatening to commit, or committing workplace violence; and persons interviewed or investigated in connection with reports or allegations of potential or actual workplace violence.

CATEGORIES OR RECORDS IN THE SYSTEM:

This system contains written and electronic records on each person who contacts the WVPT for assistance. It also contains records on individuals who are being interviewed and investigated by the WVPT. The records typically contain demographic data such as the individual's name, pay plan, grade level, employing organization, office location, duty hours, telephone number, and name of supervisor.

Information is also maintained about the workplace violence situation that is concerning the person who contacts the WVPT. This includes descriptions of events related to the workplace violence situation, others involved, as well as dates and locations of events. Each record will also contain an assessment of the situation by the WVPT, information regarding any interviews that were conducted, and the recommended interventions.

If the WVPT is interviewing a person because of someone else's report, the record of the person being interviewed may also contain information that was obtained through interviews with the supervisor, Federal or local law enforcement personnel, HHS security staff, co-workers, and any others involved in the situation.

AUTHORITY FOR MAINTENANCE OF THE SYSTEM:

5 U.S.C. 7901 (Health Services Programs);

5 U.S.C. 7902 (Safety Programs)

PURPOSE(s): The agency maintains this system of records to:

1. Administer health programs related to workplace violence prevention activities;

2. Administer and support safety programs that help reduce accidents and injuries among employees;

3. Monitor or follow up on violent or potentially violent situations in HHS;

4. Help WVPT members make assessments of violent or potentially violent situations and then make recommendations regarding interventions to those persons involved with the situations;

5. Prepare administrative reports, conduct evaluations, or audit the activities of the teams; and

6. Inform management, medical personnel and security staff in HHS of potential and actual dangerous situations that require action to assure the safety and health of employees.

ROUTINE USES OF RECORDS MAINTAINED IN THE SYSTEM, INCLUDING CATEGORIES OF USERS AND THE PURPOSES OF SUCH USES:

These records or information from these records may be released:

1. To a congressional office when it has received a written inquiry from an individual about whom a record is maintained in this system. This request will be verified before disclosure from the individual's record will be made to the congressional office.

2. When a person or property is harmed, or when threats of harm to a person or property are reported, disclosure will be made, as appropriate, to law enforcement authorities, medical treatment authorities, and those persons being threatened or harmed.

3. To the Department of Justice, a court or other tribunal, when: (a) HHS, or any component, thereof; or (b) any HHS employee in his or her official capacity; or (c) any HHS employee in his or her individual capacity where the Department of Justice (or HHS, where it is authorized to do so) has agreed to represent the employee; or (d) the United States or any agency thereof where HHS determines that the litigation is likely to affect HHS or any of its components, is a party to litigation or has interest in such litigation, and HHS determines that the use of such records by the Department of Justice, the court or other tribunal is relevant and necessary to the litigation and would help in the effective representation of the governmental party, provided, however, that in each case HHS determines that such disclosure is compatible with the purpose for which the records are collected. The local System Manager will approve any disclosure made under this routine use.

4. To student volunteers, interns, individuals working under a personal services contract, organizations working under contract, and other individuals performing functions for the Department but technically not having the status of agency employees, if they need access to the records to perform their assigned duties. This includes those performing threat or risk assessments. Contractors will be required to maintain Privacy Act safeguards with respect to such records. These safeguards are explained in the section entitled “Safegiards.”

5. To qualified personnel for research, audit, or evaluation purposes.

POLICIES AND PRACTICES FOR STORING, RETRIEVING, ACCESSING, RETAINING AND DISPOSING OF RECORDS IN THE SYSTEM:

STORAGE:

These records are maintained in file folders and on password-protected computers, and computer disks. Folders and computer disks, when not in use, are stored in a secured area accessible only to members of the WVPT.

RETRIEVABILITY:

These records are retrieved by employee name (those who reported a violent or potentially violent event and those who were reported), event date, and event location.

SAFEGUARDS:

1. Authorized Users: Access to these records is limited to members of the WVPT. Others working with the WVPT, such as outside consultants, when approved by the team, may have access for the purpose of investigating a situation, preparing reports, or conducting evaluations and audits.

2. Physical Safeguards: All paper records are stored in metal filing cabinets equipped with locks, preferably combination. The file cabinets are stored in secure areas with access limited to the WVPT members. Computer records are stored on disks or computers that are password protected or are systems discreet from other computer systems. Disks are stored in the same manner as paper records.

3. Procedural Safeguards: Information will only be released from this system of records in accordance with the routine uses described above or as provided by the Privacy Act's disclosure provisions. Those who are serviced by the WVPT will be informed in writing about the WVPT's confidentiality procedures when they begin the process. Consultants must not disclose records. Secondary disclosure of information is prohibited unless permitted by a routine use or other of the Privacy Act's disclosure provisions.

4. Contractor Guidelines: Contractors who are given records under routine use #3 must maintain the records in a secured area, allow only those individuals immediately involved in the processing of the records to have access to them, prevent unauthorized persons from gaining access to the records, and return records to the System Managers immediately upon completion of the work specified in their contracts. Contractor compliance is assured through inclusion of Privacy Act requirements in contract clauses, and through monitoring by contract and project officers. Contractors who maintain records are instructed to make no disclosure of the records except as authorized by the System Managers and as stated in the contracts.

RETENTION AND DISPOSAL:

Records are destroyed two years after the incident/situation has been closed by the WVPT or until any litigation/third party action about it has been resolved. Files will be destroyed only by a WVPT team member and with a witness present. Paper records will be destroyed by shredding or burning. Information stored on computers will be destroyed by deleting all appropriate portions of floppy disks, hard drives, tapes, and other electronic media that may contain the record. Consultant and contractor records will be transferred to the local WVPT for destruction.

SYSTEM MANAGER(S) AND ADDRESS:

The records of individuals served by the WVPT are managed by local System Managers in the various HHS sites listed in Appendix A.

NOTIFICATION PROCEDURES:

For purposes of notification, the subject individual, and/or the individual's legal representative should write to the local System Manager who will require the system name, requestor name, address, and Social Security Number to ascertain whether the individual's record is in the system.

RECORD ACCESS PROCEDURES:

For purposes of access, use the same procedures outlined in Notification Procedures above. Requestors must also reasonably specify the record contents being sought. (These procedures are in accordance with Department regulation 45 CFR 5b.5(a)(2).)

CONTESTING RECORD PROCEDURES:

The subject individual shall contact the System Manager and reasonably identify the record and specify the information being contested. State the corrective action sought (addition to, deletion of, or substitution of) and the reasons for the correction with supporting justification. (These procedures are in accordance with Department regulation 45 CFR 5b.7.)

RECORD SOURCE CATEGORIES:

Information in this system of records is supplied by the individual contacting the WVPT, this individual's coworkers (including the supervisor), a member of the individual's family, sources to/from whom the individual has been referred for assistance, Departmental officials involved in the situation (such as security staff), or other sources involved with the situation and its resolution.

SYSTEMS EXEMPTED FROM CERTAIN PROVISIONS OF THE PRIVACY ACT:

None.

Appendix A

1. For employees in the Southwest DC area, contact: Workplace Violence Prevention Team Leader, PSC Work/Life Center, 330 C Street, SW, Room 1250, Washington, DC 20201.

2. For employees on the MIH Campus in Bethesda, MD, contact: Critical Incidents Violence Intervention League (CIVIL) Team Leader, OHRM/OD, 31 Center Drive, Room 1C39, Bethesda, MD 20892.

3. For employees at HCFA headquarters in Baltimore, MD, contact: Crisis Management Team Leader, 7500 Security Boulevard, Room S1-23-27, Baltimore, MD 21244.

4. For employees at CDC headquarters in Atlanta, GA, contact: Crisis Management Team Chair, Associate Director for Management and Operations, 1600 Clifton Road, NE, MS-D15, Atlanta, GA 30333, or, Crisis Management Team Co-Chair, Employee Relations Specialist, 4770 Buford Highway, MS-K17, Atlanta, GA 30341-3274.

5. For employees in SAMHSA, contact: SAMHSA Crisis Intervention Team Leader, SAMHSA, Division of Human Resources Management, 5600 Fishers Lane, Room 14C17, Rockville, Maryland 20857, 301-443-4006.

[FR Doc. 00-25293 Filed 10-2-00; 8:45 am]

BILLING CODE 4150-04-M